DEPARTMENT OF AGRICULTURE

Food Safety and Inspection Service

[Docket No. FSIS-2022-0034]

National Advisory Committee on Microbiological Criteria for Foods; Solicit for Membership Nominations

AGENCY: Food Safety and Inspection Service (FSIS), U.S. Department of Agriculture (USDA).

ACTION: Notice.

SUMMARY: On February 6, 2023, the USDA published a notice in the Federal Register soliciting nominations for membership on the National Advisory Committee on Microbiological Criteria for Foods (NACMCF). In the notice, FSIS stated that the nomination period would close on March 15, 2023. FSIS is extending the nomination period until April 17, 2023, to provide interested persons with additional time to submit their nomination packages.

DATES: On February 6, 2023, USDA published a notice in the Federal Register 88 FR 7676; FR Doc. 2023-02395 soliciting nominations for membership on the NACMCF. The notice stated the nomination period would close on March 15, 2023. FSIS is extending the nomination period until April 17, 2023, to provide interested persons with additional time to submit their nomination packages. All nomination packages must be received by 11:59 p.m. est. or postmark by April 17, 2023.

ADDRESSES: Nomination packages should be sent by email to NACMCF@usda.gov, or mailed to: The Honorable Thomas Vilsack, Secretary, U.S. Department of Agriculture, 1400 Independence Avenue SW, Room 1131, South Building, Attn: FSIS\OPHS\National Advisory Committee on Microbiological Criteria for Foods (John Jarosh), Washington, DC 20250.

FOR FURTHER INFORMATION CONTACT: John Jarosh, Designated Federal Officer, by telephone at 510-671-4397, by email to NACMCF@usda.gov or by mail to: John Jarosh, USDA, FSIS, Office of Public Health Science, 1400 Independence Avenue SW, Room 1131, Washington, DC 20250.

SUPPLEMENTARY INFORMATION: The NACMCF provides impartial scientific advice and peer reviews to Federal food safety agencies for use in the development of an integrated national food safety systems approach that assures the safety of domestic, imported, and exported foods. USDA is seeking NACMCF nominees with scientific expertise in the fields of microbiology, risk assessment, epidemiology, public health, food science, and other relevant disciplines. To obtain the scientific perspective, expertise, experience and point-of-view of all stakeholders, USDA is seeking nominations for the NACMCF from persons in academia, industry, and State governments, as well as all other interested persons with the required expertise. Members can serve on only one USDA Advisory Committee at a time.

A complete nomination package consists of the three documents listed in the February 6, 2023, notice: (1) Nomination cover letter addressed to the Secretary of Agriculture, (2) résumé or curriculum vitae and (3) USDA Advisory Committee Membership Background Information form AD-755 Available at: https://www.usda.gov/sites/default/files/documents/ad-755.pdf (88 FR 7676). The resume or curriculum vitae must be limited to five one-sided pages and should include educational background, expertise, and a list of select publications, if available, that confirm the nominee's expertise for the related work. Any submissions with more than the prescribed five one-sided pages in length will have only the first five pages reviewed. A person may self-nominate, or a nomination can be made on behalf of someone else.

Additional Public Notification

Public awareness of all segments of rulemaking and policy development is important. Consequently, FSIS will announce this Federal Register publication on-line through the FSIS web page located at: http://www.fsis.usda.gov/federal-register.

FSIS will also announce and provide a link to it through the FSIS Constituent Update, which is used to provide information regarding FSIS policies, procedures, regulations, Federal Register notices, FSIS public meetings, and other types of information that could affect or would be of interest to our constituents and stakeholders. The Constituent Update is available on the FSIS web page. Through the web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves and have the option to password protect their accounts.

USDA Non-Discrimination Statement

In accordance with Federal civil rights law and USDA civil rights regulations and policies, USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.ocio.usda.gov/document/ad-3027, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410;

(2) Fax: (833) 256-1665 or (202) 690-7442; or

(3) Email: program.intake@usda.gov.

USDA is an equal opportunity provider, employer, and lender.

Dated: March 20, 2023.
Cikena Reid,
USDA Committee Management Officer.

[FR Doc. 2023-06261 Filed 3-24-23; 8:45 am]

BILLING CODE 3410-DM-P